DEPARTMENT OF EDUCATION

RIN 1820-ZA28

Special Demonstration Programs—Model Demonstration Projects—Mentoring for Transition-Age Youth and Young Adults With Disabilities

AGENCY: Office of Special Education and Rehabilitative Services, Department of Education.

ACTION: Notice of final priority, definitions, and application requirements.

SUMMARY: The Assistant Secretary for Special Education and Rehabilitative Services announces a priority, definitions, and application requirements for Special Demonstration Programs—Model Demonstration Projects—Mentoring for Transition-Age Youth and Young Adults With Disabilities. The Assistant Secretary may use this priority, definitions, and application requirements for competitions in fiscal year (FY) 2003 and later years. We take this action to focus attention on an area of national need. We intend the priority to increase meaningful postsecondary education and quality employment outcomes through a mentoring system within State vocational rehabilitation (VR) agencies.

EFFECTIVE DATE: This priority, definitions, and application requirements are effective September 30, 2003.

FOR FURTHER INFORMATION CONTACT: Alfreda Reeves. Telephone: (202) 205-9361 or via Internet: Alfreda.Reeves@ed.gov.

Or Pamela Martin. Telephone: (202) 205-8494 or via Internet: Pamela.Martin@ed.gov.

Both individuals may be reached at the U.S. Department of Education, 400 Maryland Avenue, SW., room 3314, Switzer Building, Washington, DC 20202-2645.

If you use a telecommunications device for the deaf (TDD), you may call the TDD number at (202) 205-4475.

Individuals with disabilities may obtain this document in an alternative format (e.g., Braille, large print, audiotape, or computer diskette) on request to one of the contact persons listed under FOR FURTHER INFORMATION CONTACT.

SUPPLEMENTARY INFORMATION: These model demonstration projects would test whether increases in meaningful postsecondary education and quality employment outcomes can be achieved through the use of mentors by State VR agencies.

The authority for these projects is in title III, section 303(b) of the Rehabilitation Act of 1973, as amended (the Act) (29 U.S.C. 762(b)(3)). Under this competition the Assistant Secretary makes awards to State VR agencies.

The educational and employment achievements of youth and young adults with disabilities lag significantly behind those of their peers without disabilities. The Office of Special Education Programs reports that only 57.4 percent of youth with disabilities graduate from high school with a standard diploma. In addition, the Final Report of the Presidential Task Force on Employment of Adults with Disabilities, July 2002, estimates that only one-third of youth and young adults with disabilities receive appropriate job training and assistance. Some of the barriers to autonomy and achievement encountered by youth and young adults with disabilities include uncoordinated approaches to transition across service systems, discontinuity between schools and adult disability services, poor preparation of teens for adult life, lack of incentives or supports for early transition planning, and lack of school and community supports.

For transitioning youth and young adults with disabilities, developing positive self-confidence, resilience, and an expectation for achievement in a competitive, high-quality career must take place early in their academic career. Mentors or role models with whom students can identify, and who have shared interests, can have a positive impact that will last a lifetime. These individuals can play a vital role in eliminating barriers to autonomy, community integration, and achievement by motivating youth and young adults with disabilities to develop social competence, academic motivation, career awareness, and other appropriate skills needed for employment and independent living. Successful mentoring programs under this model demonstration program will provide appropriate supports, based on the individual's unique strengths, priorities, concerns, abilities, capabilities, interests, and informed choice. An overall objective of the mentoring program is to encourage youth and young adults with disabilities in meeting and achieving a desired optimal career goal or postsecondary education.

We published a notice of proposed priority, definitions, and application requirements for this program in the Federal Register on August 5, 2003 (68 FR 46422). Except for minor editorial and technical revisions, there are no differences between the notice of proposed priority, definitions, and application requirements and this final notice.

Analysis of Comments and Changes

In response to our invitation in the notice of proposed priority, definitions, and application requirements, six parties submitted comments. An analysis of the comments and of any changes in the priority, definitions, and application requirements since publication of the proposed notice follows.

Generally, we do not address technical and other minor changes—and suggested changes the law does not authorize us to make under the applicable statutory authority.

Comment: Two commenters supported the priority as written. One stated that the priority should retain the requirement for involvement by consumer-controlled organizations, since these organizations are better at ensuring that disabled individuals receive significant encouragement to achieve their highest level potential. In addition, this commenter supported the definition of “mentor” as it appears in the notice of proposed priority, definitions, and application requirements. The second commenter stated that research demonstrates that there is a greater potential for success if consumers are involved and, thus, the commenter supports the requirement that applicants collaborate with consumer-controlled organizations.

Discussion: We agree that consumer involvement is essential to the design of the demonstration projects funded under this priority and that consumer-controlled organizations may be best situated to identify and provide appropriate mentors for transition-age youth and young adults with disabilities.

Change: None.

Comment: Three commenters stated that we are excluding a vast array of individuals with diverse backgrounds that could serve as exceptional mentors by limiting mentors to individuals with disabilities. One of these commenters suggested revising the definition of “mentor” and “mentoring” to mean a more successful, experienced person, preferably with a disability. Another of these commenters suggested expanding the definition of “mentor” and “mentoring” to include parents of disabled youth. The third objection to the definition of mentor suggested that it should include both adults who have disabilities and adults who do not have disabilities. This commenter believes that it is a challenge to recruit and retain qualified adult mentors from the general population let alone requiring that those mentors have a condition that the Department of Education would define as a disability.

Discussion: We believe that mentors with whom students can identify, and who have shared interests, can play a vital role in eliminating barriers to autonomy, community integration, and achievement. Connecting individuals with mentors who have disabilities and who possess practical knowledge and firsthand experience in achieving high-quality employment and independence will greatly assist those individuals to make positive and accurate choices regarding their programs and their lives. Mentors not only offer critical guidance and information, but also serve as positive role models of independence and success. We are currently reviewing the applications we received under this competition for this year and intend to assess the response to this definition of mentor, and other issues on which we received comments, in determining whether changes are needed in future competitions.

Changes. None.

Comment: One commenter suggested that the term “consumer-controlled” organization be revised to “consumer-focused” organization and that the requirement that a majority of the officers and members of the board of directors be individuals with disabilities be deleted.

Discussion: Consumer-controlled organizations are an invaluable resource for State VR agencies in empowering persons with disabilities to achieve their employment and independent living goals. Consumer-controlled organizations represent the collective voice and experiences of their members (individuals with disabilities) who have practical knowledge and firsthand experience in achieving high-quality employment and independence. These organizations are a concentrated source of successful individuals with disabilities who are committed to assisting other consumers to achieve their personal and professional goals, specializing in empowering individuals with disabilities to achieve independence and self-sufficiency. By requiring that a majority of the officers and members of the board of directors be individuals with disabilities, we ensure that the organization is truly consumer-controlled and vests power and authority in individuals with disabilities themselves. As stated earlier, we will assess the proposals we received to determine whether the model and definitions reflected in the priority are workable and yield an adequate number of high quality applications.

Changes: None.

Comment: Two commenters expressed concern about limiting the eligibility under this competition to VR agencies, and one further objected to the requirement to involve consumer-controlled organizations. One commenter stated that consumer organizations, by design, are more capable of matching mentees with appropriate mentors, and that these organizations should be the grantee, not the VR agency. The other commenter also objected to limiting eligibility to VR agencies and believes that the Department should not require the involvement of consumer-controlled organizations but should focus on reaching out to include institutions of higher education, chambers of commerce, community and faith-based organizations and State and local workforce boards. The active involvement of State and local workforce boards as well as chambers of commerce is critical because of their strong ties to business and industry.

Discussion: We have limited eligibility under this competition to State VR agencies in order to create systemic change in the VR system. The goal of these demonstrations is to improve services to consumers of VR services through the development of models that can be implemented by State VR agencies. The priority requires that VR agencies clearly describe how the project will collaborate with consumer-controlled organizations that have in-depth knowledge of the rehabilitation process, the outreach methods used to select project participants, and the criteria by which individuals with disabilities will be recruited as mentors by the consumer-controlled organizations. We asked for specific comment on the requirement to collaborate with a consumer-controlled organization, and we will assess the response to this requirement in conjunction with our review of the applications that were received under this competition for this year.

Change: None.

Comment: One commenter suggested that this priority should not be limited to serving youth with disabilities, but should include youth who do not have disabilities for integration purposes.

Discussion: While we see the importance of integrated settings and initiatives, we are restricted legislatively to serving individuals with disabilities. The Act, which is the Federal law and basis for this priority, is meant to serve and empower individuals with disabilities so that they may maximize employment, economic self-sufficiency, independence, and inclusion and integration into society. Funds authorized for grant funding under the Act must be used for the benefit of individuals with disabilities.

Changes: None.

Comment: One commenter suggested that the priority allow for the expenditure of funds for the purpose of enabling transition-age youth and young adults with disabilities to access information such as newspapers, computers, Braille, note taking devices, etc. The commenter stated that statistics show that people who have daily access to current events, social activities, and economic changes have a better chance to achieve a high employment outcome.

Discussion: The purpose of this priority is to establish mentoring models that provide appropriate supports for transition-age youth and young adults with disabilities. Since transition-age youth and young adults with disabilities to be served under these demonstrations will be VR consumers, mentors working with VR counselors could, if appropriate for the consumer, identify the need to access information as a service within the consumer's Individualized Plan for Employment. The Rehabilitation Services Administration (RSA) would view this expense as allowable and would assess the merits of all expenses and activities identified within an application submitted for funding under this priority.

Changes: None.

Note: This notice does not solicit applications. In any year in which we choose to use this priority, definitions, and application requirements, we invite applications through a notice in the Federal Register. When inviting applications we designate the priority, definitions, and application requirements as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priority

Model Demonstration Projects—Mentoring for Transition-Age Youth and Young Adults With Disabilities

Under 34 CFR 75.105(b)(2)(v) and 34 CFR 373.6(b)(2) and (c)(8), this priority supports projects that demonstrate mentoring models focusing on transitioning youth and young adults with disabilities that will be effective in increasing meaningful community integration, postsecondary education, and employment outcomes. The mentoring models developed under this program must incorporate effective, research-based mentoring methods. An external evaluation of these projects will be initiated in FY 2004. The projects must cooperate with the external evaluator including establishing a common data system.

A. Definitions

Mentor means a more successful, experienced person with a disability, who can be most appropriately matched with the youth with a disability and who can impart advice, support, insight, and knowledge on employment and other life activities to a less experienced person. State VR agencies should match mentors and mentees using the best individualized information possible.

Mentoring means the act of a more successful, experienced person or persons with a disability, working with a less experienced youth or young adult, or a group of individuals, by providing guidance in the form of teaching and support, encouraging and motivating, assisting with career and professional development, assisting with goal achievement, and linking the less experienced youth to others who can help enhance growth and development.

Youth and young adults with disabilities, as defined in 34 CFR 373.4, means individuals with disabilities who are between the ages of 16 and 26 inclusive when entering the program.

Consumer-controlled organization is an organization that vests power and authority in individuals with disabilities and a majority of the officers and members of the board of directors are individuals with disabilities.

B. General Requirements for Applicants

These model demonstration projects must focus on research-based mentoring methods that provide appropriate supports for transition-age youth and young adults with disabilities. The projects must demonstrate research-based mentoring models that will be effective in increasing meaningful community integration, postsecondary education, and employment outcomes through collaboration between State VR agencies and consumer-controlled organizations. To meet the requirements an applicant must—

(1) Describe the manner in which mentoring will increase academic achievement, participation in postsecondary education, and high-quality employment outcomes for transitioning youth and young adults with disabilities by including information on the expected impact and outcomes of the project. More specifically, an applicant must project a goal of how many youth and young adults with disabilities will transition into postsecondary education or will achieve high-quality employment outcomes. An applicant also must be specific about what data it will collect in order to measure project outcomes against the goal;

(2) Describe the research-based mentoring models that will be demonstrated through its project;

(3) Describe clear program goals and intended program outcomes and well-defined operational guidelines that will support these goals;

(4) Describe how the project will collaborate with consumer-controlled organizations that have in-depth knowledge of the rehabilitation process, the outreach methods used to select project participants, and the criteria by which individuals with disabilities will be recruited as mentors by the consumer-controlled organizations;

(5) Describe how the proposed project will increase self-advocacy, high-level personal and career expectations, decisionmaking, and adjustment to disability of the mentored individuals. At a minimum, the project must describe how mentors will help consumers—

(a) navigate through service delivery systems; and

(b) develop and improve self-confidence, community integration skills, work skills, self-determination skills, advocacy, and decisionmaking;

(6) Describe the design and implementation of an internal evaluation plan for which—

(a) The methods of evaluation are thorough, feasible, and appropriate to the goals, objectives, and outcomes of the project;

(b) The methods of evaluation include the use of objective performance measures that are clearly related to the intended outcomes of the project and will produce quantitative and qualitative data to the extent possible;

(c) The methods of evaluation will provide performance feedback and permit periodic assessment of progress toward achieving intended outcomes; and

(d) The methods of evaluation will be consistent with and can support the program assessment that will be implemented by RSA; and

(7) Include a plan to widely disseminate the results of the project, including any mentoring methods that demonstrated positive results, so the mentoring model may be adapted, replicated, or integrated into other State VR agencies and disability organizations.

Waiver of Delayed Effective Date

The Administrative Procedure Act requires that a proposed rule be published at least 30 days before its effective date, except as otherwise provided for good cause (5 U.S.C. 553(d)(3)). In order to make timely grant awards, the Secretary has determined that a delayed effective date is impracticable.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Applicable Program Regulations: 34 CFR part 373.

Electronic Access to This Document

You may review this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.235Q, Special Demonstration Programs—Model Demonstration Projects—Mentoring for Transition-Age Youth and Young Adults With Disabilities).

Program Authority: 29 U.S.C. 773(b).

Dated: September 25, 2003.
Robert H. Pasternack,
Assistant Secretary for Special Education and Rehabilitative Services.

[FR Doc. 03-24706 Filed 9-29-03; 8:45 am]

BILLING CODE 4000-01-P